DEPARTMENT OF HOMELAND SECURITY

Coast Guard

33 CFR Part 100

[Docket Number USCG-2017-0010]

RIN 1625-AA08

Special Local Regulations; Sector Ohio Valley Annual and Recurring Special Local Regulations Update

AGENCY: Coast Guard, DHS.

ACTION: Final rule.

SUMMARY: The Coast Guard is amending and updating its special local regulations relating to recurring marine parades, regattas, and other events that take place in the Coast Guard Sector Ohio Valley area of responsibility (AOR). This rule informs the public of regularly scheduled events that require additional safety measures through the establishing of a special local regulation. Through this rulemaking the current list of recurring special local regulations is updated with revisions, additional events, and removal of events that no longer take place in Sector Ohio Valley's AOR. When these special local regulations are enforced, certain restrictions are placed on marine traffic in specified areas.

DATES: This rule is effective June 2, 2017.

ADDRESSES: To view documents mentioned in this preamble as being available in the docket, go to http://www.regulations.gov, type USCG-2017-0010 in the “SEARCH” box and click “SEARCH.” Click on Open Docket Folder on the line associated with this rule.

FOR FURTHER INFORMATION CONTACT: If you have questions on this rule, call or email Petty Officer James Robinson, Sector Ohio Valley, U.S. Coast Guard; telephone (502) 779-5347, email James.C.Robinson@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Captain of the Port (COTP) Ohio Valley is establishing, amending, and updating its current list of recurring special local regulations codified under 33 CFR 100.801 in Table no. 1, for the COTP Ohio Valley zone.

On March 27, 2017, the Coast Guard published a notice of proposed rulemaking (NPRM) titled Sector Ohio Valley Annual and Recurring Special Local Regulations Update (82 FR 15174). During the comment period that ended April 26, 2017, no comments were received.

We are issuing this rule, and under 5 U.S.C. 553(d)(3), the Coast Guard finds that good cause exists for making it effective less than 30 days after publication in the Federal Register. It would be impracticable to provide a full 30-days notice because this rule must be effective June 16, 2017.

III. Legal Authority and Need for Rule

The Coast Guard's authority for establishing a special local regulation is contained at 33 U.S.C. 1233. The Coast Guard is amending and updating the special local regulations under 33 CFR part 100 to include the most up to date list of recurring special local regulations for events held on or around navigable waters within the Sector Ohio Valley AOR. These events include marine parades, boat races, swim events, and others. The current list under 33 CFR 100.801 requires amending to provide new information on existing special local regulations, include new special local regulations expected to recur annually or biannually, and to remove special local regulations that are no longer required. Issuing individual regulations for each new special local regulation, amendment, or removal of an existing special local regulation creates unnecessary administrative costs and burdens. This rulemaking reduces administrative overhead and provides the public with notice through publication in the Federal Register of the upcoming recurring special local regulations.

IV. Discussion of Comments, Changes, and the Rule

No comments were received. No changes to the proposed rule have been made.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This rule has not been designated a “significant regulatory action,” under Executive Order 12866. Accordingly, it has not been reviewed by the Office of Management and Budget.

The Coast Guard expects the economic impact of this rule to be minimal, and therefore a full regulatory evaluation is unnecessary. This rule establishes special local regulations limiting access to certain areas under 33 CFR part 100 within Sector Ohio Valley's AOR. The effect of this rulemaking will not be significant because these special local regulations are limited in scope and duration. Additionally, the public is given advance notification through local forms of notice, the Federal Register, and/or Notices of Enforcement and thus will be able to plan around the special local regulations in advance. Deviation from the special local regulations established through this proposed rulemaking may be requested from the appropriate COTP and requests will be considered on a case-by-case basis. Broadcast Notices to Mariners and Local Notices to Mariners will also inform the community of these special local regulations so that they may plan accordingly for these short restrictions on transit. Vessel traffic may request permission from the COTP Ohio Valley or a designated representative to enter the restricted areas.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received 0 comments from the Small Business Administration on this rulemaking. The Coast Guard certifies under 5 U.S.C. 605(b) that this rule will not have a significant economic impact on a substantial number of small entities.

This rule will affect the following entities, some of which may be small entities: The owners or operators of vessels intending to transit the special local regulation areas during periods of enforcement. The special local regulations will not have a significant economic impact on a substantial number of small entities because they are limited in scope and will be in effect for short periods of time. Before the enforcement period, the Coast Guard COTP will issue maritime advisories widely available to waterway users. Deviation from the special local regulations established through this rulemaking may be requested from the appropriate COTP and requests will be considered on a case-by-case basis.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment. This rule involves the establishment of special local regulations related to marine event permits for marine parades, regattas, and other marine events. It is categorically excluded from further review under paragraph 34(h) of Figure 2-1 of the Commandant Instruction. A Record of Environmental Consideration (REC) supporting this determination is available in the docket where indicated in the ADDRESSES section of this preamble.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 100

Marine safety, Navigation (water), Reporting and recordkeeping requirements, and Waterways.

For the reasons discussed in the preamble, the U.S. Coast Guard amends 33 CFR part 100 as follows:

PART 100—SAFETY OF LIFE ON NAVIGABLE WATERWAYS

1. The authority citation for part 100 continues to read as follows:

Authority: 33 U.S.C. 1233.

2. In § 100.801, revise table 1 to read as follows:

§ 100.801 Annual Marine Events in the Eighth Coast Guard District.

* * * * *

Table 1 of § 100.801—Ohio Valley Captain of the Port Zone Annual and Recurring Marine Events
Date | Event/sponsor | Ohio Valley location | Regulated area
1. The first Saturday in April | University of Charleston Rowing/West Virginia Governor's Cup Regatta | Charleston, WV | Kanawha River, Mile 59.9-61.4 (West Virginia).
2. 1 day—During the last week of April or first week of May | Kentucky Derby Festival/Belle of Louisville Operating Board/Great Steamboat Race | Louisville, KY | Ohio River, Mile 596.0-604.3 (Kentucky).
3. 1 day—Third or fourth weekend in May | REV3/REV3 Triathlon | Knoxville, TN | Tennessee River, Mile 646.0-649.0 (Tennessee).
4. 1 day—Third weekend in May | World Triathlon Corporation/IRONMAN 70.3 | Chattanooga, TN | Tennessee River, Mile 463.0-466.0 (Tennessee).
5. 1 day—Second weekend in June | Chattanooga Parks and Rec/Chattanooga River Rats Open Water Swim | Chattanooga, TN | Tennessee River, Mile 464.0-469.0 (Tennessee).
6. 1 day—Third or fourth weekend in June | Greater Morgantown Convention and Visitors Bureau/Mountaineer Triathlon | Morgantown, WV | Monongahela River, Mile 101.0-102.0 (West Virginia).
7. 2 days—First weekend of June | Kentucky Drag Boat Association | Pisgah Bay, KY | Tennessee River, Mile 30.0 (Kentucky).
8. 1 day—One of the first two weekends in August | Green Umbrella/Ohio River Paddlefest | Cincinnati, OH | Ohio River, Mile 459.5-470.2 (Ohio and Kentucky).
9. 1 day—Fourth or fifth Sunday in September | Green Umbrella/Great Ohio River Swim | Cincinnati, OH | Ohio River, Mile 469.8-470.2 (Ohio and Kentucky).
10. 1 day—One of the last two weekends in September | Ohio River Open Water Swim | Prospect, KY | Ohio River, Mile 588.0-590.0 9 (Kentucky).
11. 2 days—Second or third weekend in September | Louisville Dragon Boat Festival | Louisville, KY | Ohio River, Mile 603.0-603.5 (Kentucky).
12. 1 day—Third or fourth Sunday of July | Tucson Racing/Cincinnati Triathlon | Cincinnati, OH | Ohio River, Mile 469.3-470.2 (Ohio).
13. 2 days—First weekend of July | Kentucky Drag Boat Association | Pisgah Bay, KY | Tennessee River, Mile 30.0 (Kentucky).
14. 1 day—Second weekend in July | Bradley Dean/Renaissance Man Triathlon | Florence, AL | Tennessee River, Mile 255.0-257.0 (Alabama).
15. 3 days—One of the first two weekends in July | Madison Regatta, Inc./Madison Regatta | Madison, IN | Ohio River, Mile 555.0-560.0 (Indiana).
16. 1 day—One of the last three weekends in June | Louisville Race the Bridge Triathlon | Louisville, KY | Ohio River, Mile 601.5-603.0 (Kentucky).
17. 1 day—Fourth weekend in June | Team Magic/Chattanooga Waterfront Triathlon | Chattanooga, TN | Tennessee River, Mile 463.0-465.0 (Tennessee).
18. 1 day—Fourth weekend in July | Team Magic/Music City Triathlon | Nashville, TN | Cumberland River, Mile 190.0-192.0 (Tennessee).
19. 2 days—Last two weeks in July or first three weeks of August | Friends of the Riverfront Inc./Pittsburgh Triathlon and Adventure Races | Pittsburgh, PA | Allegheny River, Mile 0.0-1.5 (Pennsylvania).
20. 3 days—First week of August | EQT Pittsburgh Three Rivers Regatta | Pittsburgh, PA | Ohio River, Mile 0.0-0.5, Allegheny River, Mile 0.0-0.6, and Monongahela River, Mile 0.0-0.5 (Pennsylvania).
21. 2 days—First weekend of August | Kentucky Drag Boat Association | Pisgah Bay, KY | Tennessee River, Mile 30.0 (Kentucky).
22. 2 days—One of the last two weekends in September | Captain Quarters Regatta | Louisville, KY | Ohio River, Mile 595.0-597.0 (Kentucky).
23. 2 days—Second or third weekend in October | Norton Healthcare/Ironman Triathlon | Louisville, KY | Ohio River, Mile 601.5-604.5 (Kentucky).
24. 2 days—Third full weekend (Saturday and Sunday) in August | Ohio County Tourism/Rising Sun Boat Races | Rising Sun, IN | Ohio River, Mile 504.0-508.0 (Indiana and Kentucky).
25. 1 day—Last weekend in August | Tennessee Clean Water Network/Downtown Dragon Boat Races | Knoxville, TN | Tennessee River, Mile 647.0-649.0 (Tennessee).
26. 3 days—Third weekend in August | Governors' Cup/UWP-IJSBA National Championships | Charleston, WV | Kanawha River, Mile 56.7-57.6 (West Virginia).
27. 2 days—Fourth weekend in July | Herd Racing LLC/Huntington Classic | Huntington, WV | Ohio River, Mile 307.3-309.3 (West Virginia).
28. 2 days—Labor Day weekend | Wheeling Vintage Race Boat Association Ohio/Wheeling Vintage Regatta | Wheeling, WV | Ohio River, Mile 090.4-091.5 (West Virginia).
29. 2 days—Weekend before Labor Day | SUP3Rivers The Southside Outside | Pittsburgh, PA | Monongahela River, Mile 0.0-3.09 Allegheny River Mile 0.0-0.25 (Pennsylvania).
30. 1 day—Saturday before Labor Day | Wheeling Dragon Boat Race | Wheeling, WV | Ohio River, Mile 90.4-91.5 (West Virginia).
31. 1 day—First or second weekend in September | Cumberland River Compact/Cumberland River Dragon Boat Festival | Nashville, TN | Cumberland River, Mile 190.0-192.0 (Tennessee).
32. 2 days—First or second weekend in September | State Dock/Cumberland Poker Run | Jamestown, KY | Lake Cumberland (Kentucky).
33. 3 days—First or second weekend in September | Sailing for a Cure Foundation/SFAC Fleur de Lis Regatta | Louisville, KY | Ohio River, Mile 601.0-604.0 (Kentucky).
34. 1 day—Last weekend in September | World Triathlon Corporation/IRONMAN Chattanooga | Chattanooga, TN | Tennessee River, Mile 463.0-467.0 (Tennessee).
35. 1 day—Second weekend in September | City of Clarksville/Clarksville Riverfest Cardboard Boat Regatta | Clarksville, TN | Cumberland River, Mile 125.0-126.0 (Tennessee).
36. 2 days—First weekend of October | Three Rivers Rowing Association/Head of the Ohio Regatta | Pittsburgh, PA | Allegheny River, Mile 0.0-4.0 (Pennsylvania).
37. 1 day—First or second weekend in October | Lookout Rowing Club/Chattanooga Head Race | Chattanooga, TN | Tennessee River, Mile 464.0-467.0 (Tennessee).
38. 1 day—Third weekend in November | TREC-RACE/Pangorge | Chattanooga, TN | Tennessee River, Mile 444.0-455.0 (Tennessee).
39. 3 days—First weekend in November | Atlanta Rowing Club/Head of the Hooch Rowing Regatta | Chattanooga, TN | Tennessee River, Mile 464.0-467.0 (Tennessee).
40. One Saturday in June or July | Paducah Summer Festival/Cross River Swim | Paducah, KY | Ohio River, Mile 934-936 (Kentucky).
41. 1 day—During the last weekend in May | Louisville Metro Government/Mayor's Healthy Hometown Subway Fresh Fit, Hike, Bike and Paddle | Louisville, KY | Ohio River, Mile 602.0-603.5 (Kentucky).
42. 3 days—One of the last three weekends in June | Hadi Shrine/Evansville Shriners Festival | Evansville, IN | Ohio River, Mile 791.0-795.0 (Indiana).
43. 1 day—Second or third Saturday in July | Allegheny Mountain LMSC/Search for Monongy | Pittsburgh, PA | Allegheny River, Mile 0.0-0.6 (Pennsylvania).
44. 1 day—During the first week of July | Evansville Freedom Celebration/4th of July Freedom Celebration | Evansville, IN | Ohio River, Mile 791.0-796.0 (Indiana).
45. 1 day—First weekend in September | Louisville Metro Government/Mayor's Healthy Hometown Subway Fresh Fit, Hike, Bike and Paddle | Louisville, KY | Ohio River, Mile 602.0-603.5 (Kentucky).
46. 2 days—One of the last three weekends in July | Dare to Care/KFC Mayor's Cup Paddle Sports Races/Voyageur Canoe World Championships | Louisville, KY | Ohio River, Mile 601.0-604.0 (Kentucky).
47. 3 days—Fourth weekend in August | Kentucky Drag Boat Association/Thunder on the Green | Livermore, KY | Green River, Mile 70.0-71.5 (Kentucky).
48. 1 day—Fourth weekend in August | Team Rocket Tri-Club/Rocketman Triathlon | Huntsville, AL | Tennessee River, Mile 333.0-334.5 (Alabama).
49. 3 days—One of the last three weekends in September or first weekend in October | Hadi Shrine/Owensboro Air Show | Owensboro, KY | Ohio River, Mile 755.0-759.0 (Kentucky).
50. 1 day—First Sunday in August | HealthyHuntington.org/St. Marys Tri-state Triathlon | Huntington, WV | Ohio River, Mile 307.3-308.3 (West Virginia).
51. 2 days—First Weekend in August | Buckeye Outboard Association/Portsmouth Challenge | Portsmouth, OH | Ohio River, Mile 355.3-356.7 (Ohio).
52. 1 day—Sunday before Labor Day | Cincinnati Bell, WEBN, and Proctor and Gamble/Riverfest | Cincinnati, OH | Ohio River, Mile 464.0-476.0 (Kentucky and Ohio) and Licking River Mile 0.0-3.0 (Kentucky).
53. Second Sunday in September | Ohio River Sternwheel Festival Committee Sternwheel race reenactment | Marietta, OH | Ohio River, Mile 170.5-172.5 (Ohio).
54. Second Saturday in September | Parkesburg Paddle Fest | Parkersburg, WV | Ohio River, Mile 184.3-188 (West Virginia).
55. Three days during the fourth weekend in September | New Martinsville Records and Regatta Challenge Committee | New Martinsville, WV | Ohio River, Mile 128-129 (West Virginia).
56. First weekend in July | Eddyville Creek Marina/Thunder Over Eddy Bay | Eddyville, KY | Cumberland River, Mile 46.0-47.0 (Kentucky).
57. First or second weekend of July | Prizer Point Marina/4th of July Celebration | Cadiz, KY | Cumberland River, Mile 54.0-55.09 (Kentucky).
58. 2 days—Last weekend in May or first weekend in June | Visit Knoxville/Racing on the Tennessee | Knoxville, TN | Tennessee River, Mile 647.0-648.0 (Tennessee).
59. 1 day—First or second weekend in August | Riverbluff Triathlon | Ashland City, TN | Cumberland River, Mile 157.0-159.0 (Tennessee).
60. 2 days—First weekend in August | POWERBOAT NATIONALS—Ravenswood Regatta | Ravenswood, WV | Ohio River, Mile 220.5-221.5 (West Virginia).
61. 3 days—One of the last three weekends in June | Lawrenceburg Regatta/Whiskey City Regatta | Lawrenceburg, IN | Ohio River, Mile 492.0-496.0 (Indiana).
62. 2 days—One of the last three weekends in September | Madison Vintage Thunder | Madison, IN | Ohio River, Mile 557.5-558.5 (Indiana).
63. 1 day—Fourth weekend in October | Chattajack | Chattanooga, TN | Tennessee River, Mile 463.7-464.5 (Tennessee).
64. 1 day—Third weekend in March | Vanderbilt Invite | Nashville, TN | Cumberland River, Mile 189.0-192.0 (Tennessee).
65. 2 days—Last weekend in September | Music City Head Race | Nashville, TN | Cumberland River, Mile 190.5-195.0 (Tennessee).
66. 1 day—Last weekend in July | Music City SUP Race | Nashville, TN | Cumberland River, Mile 190.0-191.5 (Tennessee).
67. 3 days—Third weekend in June | Thunder on the Cumberland | Nashville, TN | Cumberland River, Mile 190.5-194.0 (Tennessee).
68. 3 days—Second weekend in May | ACRA Henley | Nashville, TN | Cumberland River, Mile 189.0-193.0 (Tennessee).
69. 2 days—Third weekend in August | Kittanning Riverbration Boat Races | Kittanning, PA | Allegheny River, Mile 44.0-45.5 (Pennsylvania).
70. 2 days—Third Friday and Saturday in April | Thunder Over Louisville | Louisville, KY | Ohio River, Mile 598.0-603.0 (Kentucky).
71. 3 days—One of the first two weekends in September | Evansville HydroFest | Evansville, IN | Ohio River, Mile 791.8.0-793.0.

* * * * *

Dated: 25 May 2017.
M.B. Zamperini,
Captain, U.S. Coast Guard, Captain of the Port Ohio Valley.

[FR Doc. 2017-11473 Filed 6-1-17; 8:45 am]

BILLING CODE 9110-04-P